DEPARTMENT OF THE TREASURY

Submission for OMB Review; Comment Request

October 10, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before November 20, 2002 to be assured of consideration.

Internal Revenue Service (IRS)

OMB Number: New.

Form Number: IRS Form 8874.

Type of Review: New collection.

Title: New Markets Credit.

Description: Investors use Form 8874 to request a credit for equity investments in Community development entities.

Respondents: Individuals or households, Business or other for-profit.

Estimated Number of Respondents/Recordkeepers: 10,000.

Estimated Burden Hours Per Respondent/Recordkeeper:

Recordkeeping—8 hr., 7 min.

Learning about the law or the form—53 min.

Preparing and sending the form to the IRS—1 hr., 4 min.

Frequency of Response: Annually.

Estimated Total Reporting/Recordkeeping Burden: 100,900 hours.

OMB Number: 1545-1537.

Regulation Project Number: REG-253578-96 (NPRM).

Type of Review: Extension.

Title: Health Insurance Portability for Group Health Plan; (Temporary) Interim Rules for Health Insurance Portability for Group Health Plans.

Description: The regulations provide guidance for group health plans and the employers maintaining them regarding requirements imposed on plans relating to preexisting condition exclusions, discrimination based on health status, and access to coverage.

Respondents: Business or other for-profit, Not-for-profit institutions, State, Local or Tribal Government.

Estimated Number of Respondents: 1,300,000.

Estimated Burden Hours Per Respondent: Varies.

Estimated Total Reporting Burden: 591,561 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports, Management Officer.

[FR Doc. 02-26650 Filed 10-18-02; 8:45 am]

BILLING CODE 4830-01-P